COMMITTEE FOR THE IMPLEMENTATION OF TEXTILE AGREEMENTS

Determination under the Textile and Apparel Commercial Availability Provision of the Dominican Republic-Central America-United States Free Trade Agreement (CAFTA-DR Agreement)

July 11, 2008.

AGENCY: The Committee for the Implementation of Textile Agreements.

ACTION: Determination to add a product in unrestricted quantities to Annex 3.25 of the CAFTA-DR Agreement

EFFECTIVE DATE: July 16, 2008.

SUMMARY: The Committee for the Implementation of Textile Agreements (CITA) has determined that certain polyester/nylon corduroy fabrics, as specified below, are not available in commercial quantities in a timely manner in the CAFTA-DR countries. The product will be added to the list in Annex 3.25 of the CAFTA-DR Agreement in unrestricted quantities.

FOR FURTHER INFORMATION CONTACT: Laurie Mease, Office of Textiles and Apparel, U.S. Department of Commerce, (202) 482-2043.

FOR FURTHER INFORMATION ON-LINE: http://web.ita.doc.gov/tacgi/CaftaReqTrack.nsf.Reference number: 69.2008.06.12.Fabric.SharrettsPaley forFishman&Tobin.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256).

On June 12, 2008, the Chairman of CITA received a commercial availability request from Sharretts, Paley, Carter & Blauvelt, P.C., on behalf of Fishman & Tobin, for certain polyester/nylon corduroy fabrics, of the specifications detailed below. On June 16, 2008, CITA notified interested parties of, and posted on its website, the accepted request and requested that interested entities provide, by June 26, 2008, a response advising of its objection to the commercial availability request or its ability to supply the subject product. CITA also explained that rebuttals to responses were due to CITA by July 2, 2008.

No interested entity filed a response advising of its objection to the request or its ability to supply the subject product.

In accordance with section 203(o)(4)(C) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities. A revised list has been published on-line.

Corduroy fabric specifications:
Polyester/Nylon Corduroy Fabric
HTS: 5801.32.00
Fiber Content: 60 to 90% polyester/40 to 10% nylon
Yarn:
Warp - Polyester filament between 100-200 Denier (111-222 decitex), dispersed dyed
Fill - Polyester filament between 100-200 Denier (111-222 decitex), dispersed, and nylon filament between 120-220 Denier (133-244 decitex), acid dyed
Construction: 65 to 85 warp ends x 150 to 170 fill picks per inch (25 to 34 warp ends x 59 to 67 fill picks per cm).
Number of Wales: 4 to 6 wales per cm (10 to 16 wales per inch)
Weight: 240 to 280 g/m2 (7.08 to 8.26 oz./sq.yd.)
Width: 56 to 64 inches (142 to 162 cm)
Finish: Dyed

R. Matthew Priest,
Chairman, Committee for the Implementation of Textile Agreements.

[FR Doc. E8-16313 Filed 7-15-08; 8:45 am]

BILLING CODE 3510-DS